DEPARTMENT OF TRANSPORTATION

Federal Aviation Administration

[Policy Statement No. ANM-01-115-11]

Certification of Strengthened Flightdeck Doors on Transport Category Airplanes

AGENCY: Federal Aviation Administration (FAA), DOT.

ACTION: Notice of final policy.

SUMMARY: The Federal Aviation Administration (FAA) announces the availability of final policy concerning certification of strengthened flightdeck doors.

DATES: This final policy was issued by the Transport Airplane Directorate on September 6, 2002.

FOR FURTHER INFORMATION CONTACT: Jeff Gardlin, Federal Aviation Administration, Transport Airplane Directorate, Transport Standards Staff, Airframe/Cabin Safety Branch, ANM-115, 1601 Lind Avenue SW., Renton, WA 98055-4056; telephone (425) 227-2136; fax (425) 227-1320; e-mail: jeff.gardlin@faa.gov.

SUPPLEMENTARY INFORMATION:

Discussion of Comments

A notice of final policy; request for comments was published in the Federal Register on May 16, 2001 (66 FR 27196). One comment was received that did not address the policy statement so much as the applicability of the rule itself. No changes were made to the policy statement.

Background

The final policy provides all transport category airplane programs an acceptable method of compliance with 14 CFR part 25 for intrusion resistance and ballistic protection of flightdeck doors. The Frequently Asked Questions (FAQ) section has also been updated.

The final policy as well as the disposition of public comments are available on the Internet at the following address: http://www.faa.gov/certification/aircraft/anminfo/finalpaper.cfm. If you do not have access to the Internet, you can obtain a copy of the policy by contacting the person listed under FOR FURTHER INFORMATION CONTACT.

Issued in Renton, Washington, on January 17, 2003.
Vi L. Lipski,
Manager, Transport Airplane Directorate, Aircraft Certification Service.

[FR Doc. 03-2188 Filed 1-29-03; 8:45 am]

BILLING CODE 4910-13-P